FEDERAL COMMUNICATIONS COMMISSION

[OMB 3060-XXXX; FRS 27279]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before July 19, 2021. If you anticipate that you will be submitting comments but find it difficult to do so within the period of time allowed by this notice, you should advise the contacts below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION: OMB Control Number: 3060-XXXX.

Title: Advanced Methods to Target and Eliminate Unlawful Robocalls, Fourth Report and Order, CG Docket No. 17-59, FCC 20-187.

Type of Review: New information collection.

Form Number: N/A.

Total Annual Burden: 199,412 hours.

Respondents: Business or other for-profit entities.

Number of Respondents: 6,493 respondents; 582,434 responses.

Estimated Time per Response: .25 to 40 hours.

Frequency of Response: On-occasion reporting requirement, on-going reporting requirement and Third-party Disclosure requirement.

Total Annual Cost: No cost.

Obligation to Respond: Required to obtain or retain benefits. Statutory authority for these collections are contained in sections 4(i), 201, 202, 217, 227, 227b, 251(e), 303(r), and 403 of the Communications Act of 1934, as amended, 47 U.S.C. 154(i), 201, 202, 217, 227, 227b, 251(e), 303(r), 403.

Privacy Impact Assessment: No impact(s).

Nature and Extent of Confidentiality: There is no need for confidentiality with this collection of information.

Needs and Uses: This notice and request for comments seeks to establish a new information collection as it pertains to the Advanced Methods to Target and Eliminate Unlawful Robocalls Fourth Report and Order (“Call Blocking Fourth Report and Order”), FCC 20-187. Unwanted and illegal robocalls have long been the Federal Communication Commission's (“Commission”) top source of consumer complaints and one of the Commission's top consumer protection priorities. In 2019, Congress passed the Pallone-Thune Telephone Robocall Abuse Criminal Enforcement and Deterrence (TRACED) Act. In addition to directing the Commission to mandate adoption of caller ID authentication technology and encourage voice service providers to block calls by establishing safe harbors, the TRACED Act directs the Commission to ensure that both consumers and callers are provided with transparency and effective redress when calls are blocked in error. In the Call Blocking Fourth Report and Order, the Commission took several steps to better protect consumers from unwanted and illegal robocalls, and implement the TRACED Act. The Commission expanded the existing safe harbor for blocking of calls, established affirmative requirements to ensure that voice service providers better police their networks against illegal calls, and adopted several transparency and redress requirements to ensure that erroneous blocking can be quickly identified and remedied.

Call Blocking Fourth Report and Order, FCC 20-187, Paras. 22-31, 47 CFR 64.1200(n)(2)

A voice service provider must: . . . Take steps to effectively mitigate illegal traffic when it receives actual written notice of such traffic from the Commission through its Enforcement Bureau. In providing notice, the Enforcement Bureau shall identify with as much particularity as possible the suspected traffic; provide the basis for the Enforcement Bureau's reasonable belief that the identified traffic is unlawful; cite the statutory or regulatory provisions the suspected traffic appears to violate; and direct the voice service provider receiving the notice that it must comply with this section. Each notified provider must promptly investigate the identified traffic. Each notified provider must then promptly report the results of its investigation to the Enforcement Bureau, including any steps the provider has taken to effectively mitigate the identified traffic or an explanation as to why the provider has reasonably concluded that the identified calls were not illegal and what steps it took to reach that conclusion. Should the notified provider find that the traffic comes from an upstream provider with direct access to the U.S. Public Switched Telephone Network, that provider must promptly inform the Enforcement Bureau of the source of the traffic and, if possible, take steps to mitigate this traffic.

The first portion of the new information collection for which OMB approval is sought comes from the affirmative obligation adopted in the Call Blocking Fourth Report and Order that voice service providers effectively mitigate illegal traffic when notified of such traffic by the Commission's Enforcement Bureau. In adopting this requirement as well as the other affirmative obligations, the Commission made clear that, while most blocking is done by terminating voice service providers, originating and intermediate voice service providers are integral to stopping illegal calls. This requirement in particular gives the Commission an important tool in the fight to stop illegal calls.

Call Blocking Fourth Report and Order, FCC 20-187, Paras. 62-70, 47 CFR 64.1200(k)(10)

Any terminating provider that blocks calls on an opt-out or opt-in basis, either itself or through a third-party blocking service, must provide, at the request of the subscriber to a number, at no additional charge and within 3 business days of such a request, a list of calls to that number, including the date and time of the call and the calling number, that the terminating provider or its designee blocked within the 28 days prior to the request.

The second portion of the new information collection for which OMB approval is sought comes from the requirement in the Call Blocking Fourth Report and Order that any terminating voice service provider that blocks calls on an opt-in or opt-out basis must provide, on the request of the subscriber to a particular number, a list of all calls intended for that number that the voice service provider or its designee has blocked. The list must include the prior 28 days of blocked calls and must be provided to the subscriber within 3 business days.The TRACED Act expressly directs the Commission to ensure that both consumers and callers are provided with transparency. In the Call Blocking Fourth Report and Order, the Commission determined that, while opt-in or opt-out blocking must already be disclosed to consumers, a consumer may be unaware that particular calls are blocked absent such a list. Consumers can use the list to determine whether to opt out of blocking services or reach out to callers whose calls may have been blocked.

Federal Communications Commission.
Marlene Dortch,
Secretary, Office of the Secretary.

[FR Doc. 2021-10601 Filed 5-19-21; 8:45 am]

BILLING CODE 6712-01-P